DEPARTMENT OF TRANSPORTATION

Federal Railroad Administration

Draft Finding of No Significant Impact on the Tier 1 Ohio 3C Quick Start Passenger Rail Tier-1 Environmental Assessment

AGENCY: Federal Railroad Administration (FRA), United States Department of Transportation (DOT).

ACTION: Notice of availability; request for comments on draft Finding of No Significant Impact.

SUMMARY: In accordance with the National Environmental Policy Act of 1969 (NEPA) and the FRA's Procedures for Considering Environmental Impacts (FRA Environmental Procedures) (64 FR 28545, May 26, 1999), the FRA and the Ohio Department of Transportation (ODOT) and the Ohio Rail Development Commission (ORDC) prepared a Tier-1 Environmental Assessment (Tier-1 EA) that evaluates the impacts of the 3C Quick Start Passenger Rail Project. Based on the Tier-1 EA, the FRA has prepared a draft finding of no significant impact (draft FONSI) and is inviting the public to comment on the draft.

DATES: Written comments will be accepted on or before December 6, 2010. Copies of both the Tier-1 EA and draft FONSI are available on FRA's Web site at: http://www.fra.dot.gov/Pages/249.shtml and ODOT's Web site at http://www.3CisMe.Ohio.gov.

ADDRESSES: Please submit written comments on the draft FONSI to Ms. Judi Craig Parsons Brinckerhoff, 312 Elm Street, Suite 2500, Cincinnati, Ohio 45202.

FOR FURTHER INFORMATION CONTACT: For further information regarding the draft FONSI please contact Wendy Messenger, Environmental Protection Specialist, Federal Railroad Administration, 1200 New Jersey Ave., SE., Stop 20, Washington DC 20590, Wendy.Messenger@dot.gov.

SUPPLEMENTARY INFORMATION: The purpose of the 3C “Quick Start” Passenger Rail Project is to reestablish intercity conventional speed passenger rail service (up to 79 miles per hour) in the 3C Corridor and provide a reliable train system that links Ohio's three largest cities (Cleveland, Columbus and Cincinnati.) The service will deliver predictable and consistent travel times. It is intended to provide travel options and develop the passenger rail market for possible further development. To achieve these goals ORDC applied for Federal funding through the High Speed Intercity Passenger Rail Program (HSIPR Program) administered by the FRA and funded by the American Recovery and Reinvestment Act (Recovery Act). ORDC's application under the Recovery Act identified the transportation benefits of the project as providing citizens with additional mobility options and a new transportation choice for travelers with associated benefits. The FRA intends to provide funding under the HSIPR Program for this project.

In June 2009, the FRA released the HSIPR Program Guidance (Interim Guidance) that described the eligibility requirements and procedures for obtaining funding under the HSIPR Program. (74 FR 29900 (June 23, 2009)). The Interim Guidance split the funding opportunities into four separate tracks. The 3C Quick Start Project was submitted by ODOT for consideration for Track 2 funding. The Interim Guidance required Track 2 applicants to submit, with their application, a “corridor-wide `service' NEPA study, such as a programmatic or Tier I EIS.” (Interim Guidance Section 1.6.2). The Interim Guidance went on to explain that Tier 1 Environmental Impact Statements and some Environmental Assessments are programmatic and “[a]ddress[ ] actions at a broad level, such as a program concept for an entire corridor.” (Interim Guidance Section 2.2).

In order to comply with the requirements of the Interim Guidance, ODOT and ORDC prepared a Tier-1 or “service” NEPA document that included the analysis of four route alternatives including the “No Build” and twelve communities with 32 possible station sites. The No Build Alternative analyzes what would happen if there are no improvements on the OH 3C Corridor. The alternatives analyses analyze the effect on the human and natural environments of the improvements that involve the four route alternatives, twelve communities and 32 possible station sites that meet the goals of the OH 3C Quick Start Project. The Tier-1 EA was completed in September, 2009 and was made available for comment between September 25, 2009 and October 6, 2009 at http://www.3CisMe.Ohio.gov. Approximately 7,500 comments were received.

At the Tier-1 level of review, the FRA finds that the 3C Quick Start Passenger Rail Project as presented and evaluated in the July 2010 Tier-1 EA, satisfies the requirements of FRA's “Procedures for Considering Environmental Impacts” and will not have a significant impact on the quality of the human or natural environment, following the implementation of the mitigation measures detailed in the FONSI and those which will be developed during the site-specific environmental documentation process for specific improvements.

Therefore, FRA has drafted a FONSI for the proposed improvements. This FONSI based on the Tier-1 EA has been prepared to comply with NEPA and the FRA's Environmental Procedures. FRA has concluded that the award of Federal funds to reestablish the intercity passenger rail service on the 3C corridor as described in the EA, constitutes a major Federal action within the meaning of Section 102(c) of NEPA (42 U.S.C. 4332). Prior to release of construction funding for this project, ODOT and ORDC will successfully complete applicable mitigation measures detailed in the draft FONSI and complete appropriate project-level NEPA evaluations, documentation and decision documents and the mitigation measures developed thereunder.

FRA Environmental Procedures require that a FONSI be made available to the public for not less than 30 days when the “nature of the proposed action is one without precedent.” Because the nature of this project is unprecedented and this Tier-1 Level FONSI is contemplated to be one of the first that FRA will issue, this notice invites the public to comment on the draft FONSI.

Issued in Washington, DC, on November 1, 2010.
Mark E. Yachmetz,
Associate Administrator for Railroad Policy and Development.

[FR Doc. 2010-27872 Filed 11-2-10; 8:45 am]

BILLING CODE 4910-06-P